DEPARTMENT OF HOMELAND SECURITY

Coast Guard

33 CFR Part 117

[Docket Number USCG-2013-0798]

Drawbridge Operation Regulation; Illinois Waterway, Beardstown, IL

AGENCY: Coast Guard, DHS.

ACTION: Notice of deviation from drawbridge regulation.

SUMMARY: The Coast Guard has issued a temporary deviation from the operating schedule that governs the Burlington Northern Santa Fe Railroad Bridge across the Illinois Waterway, mile 88.8, at Beardstown, Illinois. The deviation is necessary to install new conley rail components which can only be done when the bridge is in the closed-to-navigation position. The deviation allows the bridge to remain in the closed-to-navigation position during two 12-hour periods.

DATES: This deviation is effective from 7 a.m. to 7 p.m., October 15 and October 22, 2013.

ADDRESSES: The docket for this deviation, USCG-2013-0798, is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Eric A. Washburn, Bridge Administrator, Western Rivers, Coast Guard; telephone (314) 269-2378, email Eric.Washburn@uscg.mil. If you have questions on viewing the docket, call Barbara Hairston, Program Manager, Docket Operations, telephone (202) 366-9826.

SUPPLEMENTARY INFORMATION: The Burlington Northern Santa Fe Railway Company requested a temporary deviation for the Burlington Northern Santa Fe (BNSF) Railroad Bridge, mile 88.8, at Beardstown, Illinois across the Illinois Waterway. It has a vertical clearance of 19.6 feet above normal pool in the closed position. The BNSF Railroad Bridge currently operates in accordance with 33 CFR 117.393(a) which requires that the bridge be maintained in the open-to-navigation position; closing only when a train needs to transit the bridge.

The deviation period is from 7 a.m. to 7 p.m., October 15 and October 22, 2013 when the draw span will remain in the closed-to-navigation position. During these times the new conley rail components will be installed. The draw span will not be returned to its fully open position until installation is completed after each closure. For the duration of the repair, work vessels will not be allowed to pass through the bridge while the installation of the conley rail components is in progress. The bridge will not be able to open for emergencies and there is no immediate alternate route for vessels to pass this section of the Illinois Waterway. The Coast Guard will also inform the users of the waterway through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: August 30, 2013.
Eric A. Washburn,
Bridge Administrator, Western Rivers.

[FR Doc. 2013-22265 Filed 9-12-13; 8:45 am]

BILLING CODE 9110-04-P